SOCIAL SECURITY ADMINISTRATION

[Docket No. SSA-2016-0038]

Notice of Senior Executive Service Performance Review Board Membership

AGENCY: Social Security Administration.

ACTION: Notice of Senior Executive Service Performance Review Board Membership.

Title 5, U.S. Code, 4314 (c)(4), requires that the appointment of Performance Review Board members be published in the Federal Register before service on said Board begins.

The following persons will serve on the Performance Review Board which oversees the evaluation of performance appraisals of Senior Executive Service members of the Social Security Administration:

Joanne Gasparini *

Hyacinth Hinojosa

Michael Kramer

John Lee

Natalie Lu

Lydia Marshall

Royce Min

Patrice Stewart

David E. Thomas

Laura N. Train

Nancy Webb

* New Member

Reginald F. Wells,
Deputy Commissioner for Human Resources.

[FR Doc. 2016-19361 Filed 8-12-16; 8:45 am]

BILLING CODE P